DEPARTMENT OF COMMERCE

Census Bureau

Agency Information Collection Activities; Submission to the Office of Management and Budget (OMB) for Review and Approval; Comment Request; Direct Digital Data Feeds

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection prior to the submission of the information collection request (ICR) to OMB for approval.

DATES: To ensure consideration, comments regarding this proposed information collection must be received on or before September 30, 2025.

ADDRESSES: Interested persons are invited to submit written comments by email to Thomas.J.Smith@census.gov and PRAcomments@doc.gov. Please reference Direct Digital Data Feeds in the subject line of your comments. You may also submit comments, identified by Docket Number USBC-2025-0038, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Omari S. Wooden, U.S. Census Bureau at (301) 763-3829 or by email at Omari.S.Wooden@census.gov.

SUPPLEMENTARY INFORMATION:

I. Abstract

The Census Bureau plans to seek approval for a new program which will allow businesses, state and local government and education agencies, and other entities normally reporting in private- and public-sector business surveys to provide us with Direct Digital Data Feeds. A data feed is an automated transmission of data from an organization's existing digital systems such as databases, accounting software, or administrative records directly to the Census Bureau, without requiring manual data entry or separate survey responses. Data feeds may include information such as organization and financial data, employment, enrollment, payroll, production, sales, inventories, and other business-related data.

Organizations choosing to participate in the program will be excused from requirements to respond to future private- and public-sector business surveys. The information they provide in their data feed will be considered as their survey response. Future engagements with program participants, outside of receiving their periodic data feeds, will be limited to reporting process changes or major organizational updates.

This effort will support a variety of survey and census programs including but not limited to the economic census, economic indicators, and other programs to improve both research and operational efficiencies. The information provided by program participants will be used for statistical purposes only and will be kept confidential under Title 13 of the United States Code.

Data feeds will offer an efficient, voluntary alternative for organizations to provide data, reducing reporting burden and improving the quality and timeliness of economic and educational statistics. Participating organizations will benefit from streamlined reporting processes, reduced reporting burdens, and reduced compliance risks, while the Census Bureau gains improved data accuracy, enhanced survey frames, better capacity for statistical modeling and analysis, and reduced costs. Data feeds will also ensure the Census Bureau can continue fulfilling its mission of accurately measuring the economy, without relying solely on traditional survey responses.

II. Method of Collection

Initially, the Census Bureau will focus on inviting large businesses, which are typically included in multiple surveys, to participate in the program. These businesses will see the largest benefit in terms of reporting burden savings. Agreements between participating organizations and the Census Bureau will establish the content, method and frequency of data feed transmissions. Program participants will provide their data feeds through secure transfer mechanisms such as Secure File Transfer Protocol, the Census Bureau's Centurion Upload Portal, or encrypted file sharing through Kiteworks.

III. Data

OMB Control Number: 0607-XXXX.

Form Number(s): None.

Type of Review: Regular submission.

Affected Public: Business or other for-profit organizations; not-for-profit institutions; state, local or Tribal governments.

Estimated Number of Respondents: We estimate that 50,000 organizations will participate in this program annually over the upcoming three years. We do expect this number to increase once we expand our efforts to invite more organizations to participate.

Estimated Time per Response: We estimate it will take an organization 2 hours and 30 minutes on average to prepare and transmit their data feed. This estimate will be re-evaluated once the program is in operation.

Estimated Total Annual Burden Hours: 125,000. The burden of this collection will eventually be offset by future reductions in burden of other private- and public-sector business surveys as organizations' survey responses are replaced by data feeds.

Estimated Total Annual Cost to Public: $0. (This is not the cost of respondents' time, but the indirect costs respondents may incur for such things as purchases of specialized software or hardware needed to report, or expenditures for accounting or records maintenance services required specifically by the collection.)

Respondent's Obligation: Participation in the Direct Digital Data Feeds program is voluntary.

Legal Authority: Title 13 U.S.C. 6, 131, 161, 182 and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-14574 Filed 7-31-25; 8:45 am]

BILLING CODE 3510-07-P